NATIONAL CREDIT UNION ADMINISTRATION

Sunshine Act: Notice of Agency Meeting

TIME AND DATE: 10:00 a.m., Thursday, February 19, 2015.

PLACE: Board Room, 7th Floor, Room 7047,1775 Duke Street (All visitors must use Diagonal Road Entrance), Alexandria, VA 22314-3428.

STATUS: Open.

MATTERS TO BE CONSIDERED: 1. NCUA's Rules and Regulations, Regulatory Flexibility Act Definition of Small Entity for Consideration of Regulatory Relief.

2. Taunton Federal Credit Union (Taunton, MA), Request to Expand Community Charter.

3. National Credit Union Share Insurance Fund Quarterly Report.

FOR FURTHER INFORMATION CONTACT: Gerard Poliquin, Secretary of the Board, Telephone: 703-518-6304.

Gerard Poliquin,
Secretary of the Board.

[FR Doc. 2015-02955 Filed 2-9-15; 4:15 pm]

BILLING CODE 7535-01-P